DEPARTMENT OF HEALTH AND HUMAN SERVICES

Health Resources and Services Administration

Agency Information Collection Activities: Submission to OMB for Review and Approval; Public Comment Request; Information Collection Request Title: The Division of Independent Review Application Reviewer Recruitment Form, OMB No. 0915-0295—Extension

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than March 25, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call the HRSA Information Collection Clearance Officer, Lisa Wright-Solomon, at (301) 443-1984.

SUPPLEMENTARY INFORMATION: Information Collection Request Title: The Division of Independent Review Application Reviewer Recruitment Form, OMB No. 0915-0295—Extension.

Abstract: HRSA's Division of Independent Review (DIR) is responsible for administering the review of eligible applications submitted for grants under HRSA competitive announcements. DIR ensures that the objective review process is independent, efficient, effective, economical, and complies with the applicable statutes, regulations, and policies. Applications are reviewed by subject matter experts knowledgeable in health and public health disciplines for which support is requested. Review findings are advisory to HRSA programs responsible for making award decisions.

This ICR is for continuation of a web-based data collection system, the Reviewer Recruitment Module (RRM), used to gather critical reviewer information. The RRM uses standardized categories of information in drop down menu format for data such as the following: Degree, specialty, occupation, work setting, and in select instances affiliations with organizations and institutions that serve special populations. Some program regulations require that objective review panels contain consumers of health services. Other demographic data may be voluntarily provided by a potential reviewer. Defined data elements assist HRSA in finding and selecting expert reviewers for objective review committees.

HRSA maintains a roster of approximately 9,000 qualified individuals who have actively served on HRSA objective review committees. The web-based RRM simplifies reviewer registration entry using a user-friendly Graphical User Interface (GUI) with a few data drop down menu choices, a search engine that supports key word queries in the actual resume or Curriculum Vitae text and also permits reviewers to access and update their information at will and as needed. The RRM is 508 compliant and accessible by the general public via a link on the HRSA “Grants” internet site, or by keying the RRM URL into their browser. The RRM is accessible using any of the commonly used internet browsers.

A 60-day notice published in the Federal Register on December 6, 2019, vol. 84, No. 235; pp. 66920-21. There were no public comments.

Need and Proposed Use of the Information: HRSA currently utilizes the RRM to collect information from individuals who wish to volunteer as objective review committee participants for the Agency's discretionary and competitive grant or cooperative agreement funding opportunities. The RRM provides HRSA with an effective search and communication functionality with which to identify and contact qualified potential reviewers. The RRM has an enhanced search and reporting capability to help DIR ensure that the HRSA reviewer pool has the necessary skills, education and diversity to meet the ever-evolving need for qualified reviewers. If DIR identifies either an expertise or demographic that is under-represented in the RRM pool, DIR is able to recruit specifically to address those needs as expertise is always the primary determinant in selecting potential reviewers for any specific grant review. No reviewer is required to provide demographic information to join the reviewer pool or be selected as a reviewer for any competition.

All HRSA reviewers must possess the technical skill and ability to access the internet on a secure desktop laptop or touch pad, and either a land line or Voice Over internet Protocol capability in order to participate in HRSA objective review committees. Reviewers are professionals with expertise and experience consistent with the HRSA mission. Certain legislation requires HRSA programs to include consumers of specific health care services in the objective review committee.

Likely Respondents: Potential respondents are subject matter professionals with expertise and experience in the social, cultural, and health care fields that are consistent with the HRSA mission and competitive program needs to address the availability and delivery of quality health care to all Americans.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
New reviewer | 1,194 | 1 | 1194 | .166 | 198
Updating reviewer information | 7,953 | 1 | 7953 | .333 | 2,648
Total | 9,147 |  | 9147 |  | 2,846

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-03587 Filed 2-21-20; 8:45 am]

BILLING CODE 4165-15-P